ENVIRONMENTAL PROTECTION AGENCY

[FRL-9977-57—Region 10]

Re-issuance of a General NPDES Permit (GP) for Small Suction Dredges in Idaho

AGENCY: Environmental Protection Agency, Region 10.

ACTION: Final reissuance of a general permit.

SUMMARY: The EPA is reissuing a National Pollutant Discharge Elimination System (NPDES) General Permit (IDG370000) for small suction dredge operations in Idaho (intake nozzle size of 5 inches in diameter or a diametric equivalent or less and with equipment rated at 15 horsepower or less). EPA provided a public comment period from December 13, 2017, through January 29, 2018. EPA received many comments suggesting that the requirements of the GP are not stringent enough to meet the State of Idaho's WQS while other comments challenged EPA's authority to issue a permit for this activity. Additional comments questioned the meaning of some permit requirements. A Response to Comments document was prepared to address the comments received and explains any changes made to the draft to produce the final permit.

DATES: The final CWA § 401 Certification from the Idaho Department of Environmental Quality is dated April 11, 2018.

The GP will be effective May 2, 2018.

ADDRESSES: Copies of the general permit, Fact Sheet and Response to Comments are available upon request. Written requests may be submitted to EPA, Region 10, 1200 Sixth Avenue, Suite 155, OWW-191, Seattle, WA 98101.

FOR FURTHER INFORMATION CONTACT: The above documents may be found on the EPA Region 10 website at https://www.epa.gov/npdes-permits/npdes-general-permit-small-suction-dredge-placer-miners-idaho. Requests may also be made to Cindi Godsey at (206) 553-1676. Requests may also be electronically mailed to: godsey.cindi@epa.gov.

SUPPLEMENTARY INFORMATION: Executive Order 12866: This action is not a significant regulatory action and was therefore not submitted to the Office of Management and Budget for review.

Dated: April 25, 2018.
Daniel D. Opalski,
Director, Office of Water & Watersheds, Region 10.

[FR Doc. 2018-09317 Filed 5-1-18; 8:45 am]

BILLING CODE 6560-50-P